DEPARTMENT OF THE INTERIOR

Bureau of Land Management

[MT-079-07-1010-PH]

Notice of Public Meeting, Western Montana Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM), the Western Montana Resource Advisory Council will meet as indicated below.

DATES: The next two regular meetings of the Western Montana RAC will be held September 5, 2007 at the Dillon Field Office, 1005 Selway Drive, Dillon, Montana and November 28, 2007 at the Butte Field Office, 106 North Parkmont, Butte, Montana beginning at 9 a.m. The public comment period for both meetings will begin at 11:30 a.m. and the meetings are expected to adjourn at approximately 3 p.m.

FOR FURTHER INFORMATION CONTACT: For the Western Montana RAC, contact Marilyn Krause, Resource Advisory Council Coordinator, at the Butte Field Office, 106 North Parkmont, Butte, Montana 59701, telephone 406-533-7617.

SUPPLEMENTARY INFORMATION: The 15-member Council advises the Secretary of the Interior, through the Bureau of Land Management, on a variety of planning and management issues associated with public land management in western Montana. At the September 5 meeting, topics we plan to discuss include updates on the Butte Resource Management Plan, the Limestone Hills Legislative EIS, and the North Hills shooting issue. Other topics include an outline of the South Tobacco Roots Project, a briefing on the process for oil and gas leasing, and a briefing on travel management compliance. Recreation fee proposals from the Forest Service continue to be on the agenda. Topics for the November 28 meeting will be determined at the September 5 meeting.

All meetings are open to the public. The public may present written comments to the Council. Each formal Council meeting will also have time allocated for hearing public comments. Depending on the number of persons wishing to comment and time available, the time for individual oral comments may be limited. Individuals who plan to attend and need special assistance, such as sign language interpretation, or other reasonable accommodations, should contact the BLM as provided below.

July 9, 2007.
Richard M. Hotaling,
Field Manager.

[FR Doc. 07-3450 Filed 7-13-07; 8:45 am]

BILLING CODE 4310-$$-M